DEPARTMENT OF THE INTERIOR

Bureau of Indian Affairs

25 CFR Chapter I

Tribal Consultation on No Child Left Behind School Facilities and Construction Negotiated Rulemaking Committee—Draft Report

AGENCY: Bureau of Indian Affairs, Interior.

ACTION: Notice of tribal consultation meetings.

SUMMARY: The Bureau of Indian Affairs is announcing that it will conduct five consultation meetings with Indian tribes to obtain oral and written comments concerning a draft report to provide Congress and the Secretary of the Interior comprehensive information about the conditions and funding needs for facilities at Bureau-funded schools, as required by the No Child Left Behind Act of 2001. See the SUPPLEMENTARY INFORMATION section of this notice for details.

DATES: The tribal consultation meetings will take place on Wednesday, June 15, 2011; Thursday, June 16, 2011; Thursday, June 30, 2011; Wednesday, July 13, 2011; and Tuesday, July 19, 2011.

FOR FURTHER INFORMATION CONTACT: The Designated Federal Officer Michele F. Singer, Director, Office of Regulatory Affairs and Collaborative Action, Office of the Assistant Secretary—Indian Affairs, 1001 Indian School Road, NW., Suite 312, Albuquerque, NM 87104; telephone (505) 563-3805; fax (505) 563-3811.

SUPPLEMENTARY INFORMATION:

I. Background

Pursuant to the Congressional mandate set out in the No Child Left Behind Act of 2001, at 25 U.S.C. 2005(a)(5), the Secretary of the Interior established the No Child Left Behind School Facilities and Construction Negotiated Rulemaking Committee in accordance with the Federal Advisory Committee Act (5 U.S.C. Appx. 1-16) and the Negotiated Rulemaking Act (5 U.S.C. 561-570a). The Committee is chartered to prepare and submit to the Secretary a catalog of the conditions at Bureau-funded schools, and to prepare reports covering: the school replacement and new construction needs at Bureau-funded school facilities; a formula for the equitable distribution of funds to address those needs; a list of major and minor renovation needs at those facilities; and a formula for equitable distribution of funds to address those needs. The reports are to be submitted to Congress and to the Secretary. All Committee documents that are available to the public can be viewed at http://www.bia.gov/WhoWeAre/AS-IA/ORM/Rulemaking/index.htm in accordance with the Federal Advisory Committee Act.

The purpose of the consultation, as required by 25 U.S.C. 2011(b), is to provide Indian tribes, Indian school boards, Indian organizations, parents, student organizations, school employees, Bureau employees, and other interested parties with an opportunity to comment on the draft report prepared by the Committee.

II. Report Details

The public may download and print a copy of the report, located at http://www.bia.gov/WhoWeAre/AS-IA/Consultation/index.htm or http://www.bia.gov/WhoWeAre/AS-IA/ORM/Rulemaking/index.htm.

III. Meeting Details

The Bureau of Indian Affairs will hold tribal consultation meetings on the following schedule:

Date | Time | Location
Wednesday, June 15, 2011 | 9 a.m.-4 p.m | Navajo Nation, Department of Diné Education, Education Center (Auditorium), Morgan Blvd.-Building 2556, Window Rock, AZ 86515.
Thursday, June 16, 2011 | 9 a.m.-4 p.m | Muckleshoot Tribal School, Cafeteria, 15209 SE 376th Street, Auburn, WA 98092.
Thursday, June 30, 2011 | 9 a.m.-4 p.m | Wild Horse Pass Hotel and Casino, Acacia C-D Room, 5040 Wild Horse Pass Blvd., Chandler, AZ 85226.
Wednesday, July 13, 2011 | 9 a.m.-4 p.m | Rushmore Plaza Civic Center, Alpine-Ponderosa Room, 444 N. Mt. Rushmore Road, Rapid City, SD 57701.
Tuesday, July 19, 2011 | 9 a.m.-4 p.m | Miccosukee Resort and Gaming, Ballroom C, 500 SW 177th Avenue, Miami, FL 33194.

Written comments will be accepted through July 29, 2011, and may be sent to the Designated Federal Officer listed in the FOR FURTHER INFORMATION CONTACT section above. All tribal consultation meetings are open to the public; however, transportation, lodging, and meals are the responsibility of the participating public.

Dated: May 31, 2011.
Paul Tsosie,
Chief of Staff, Assistant Secretary—Indian Affairs.

[FR Doc. 2011-14038 Filed 6-7-11; 8:45 am]

BILLING CODE 4310-W7-P